DEPARTMENT OF HOMELAND SECURITY

Coast Guard

33 CFR Part 117

[Docket No. USCG-2011-1050]

Drawbridge Operation Regulations; Chelsea River, Chelsea and East Boston, MA

AGENCY: Coast Guard, DHS.

ACTION: Notice of temporary deviation from regulations.

SUMMARY: The Commander, First Coast Guard District, has issued a temporary deviation from the regulation governing the operation of the new Chelsea Street Bridge across the Chelsea River, mile 1.2, between Chelsea and East Boston, Massachusetts. The recently installed new vertical lift bridge span will undergo testing for three weeks. This deviation requires a four hour advance notice for bridge openings during the lift span test period.

DATES: This deviation is effective from 7 a.m. on November 12, 2011 through 11 a.m. on December 3, 2011.

ADDRESSES: Documents mentioned in this preamble as being available in the docket are part of docket USCG-2011-1050 and are available online at http://www.regulations.gov, inserting USCG-2011-1050 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. John McDonald, Project Officer, First Coast Guard District, telephone (617) 223-8364, john.w.mcdonald@uscg.mil. If you have questions on viewing the docket, call Renee V. Wright, Program Manager, Docket Operations, telephone (202) 366-9826.

SUPPLEMENTARY INFORMATION: The Chelsea Street Bridge, across the Chelsea River, mile 1.2, between Chelsea and East Boston, Massachusetts, has a vertical clearance in the closed position of 7 feet above mean high water and 17 feet above mean low water, and 175 feet above mean high water in the full open position. The bridge opens on signal at all times as required by 33 CFR 117.593.

The waterway is transited predominantly by commercial operators delivering petroleum products to facilities located upstream from the new bridge.

The lift span at the new bridge will be operated by the contractor, J.F. White Company, for testing from 7 a.m. on November 12, 2011 through 11 a.m. on December 3, 2011. At least a four hour advance notice shall be required for bridge openings during the above test period. Requests to open the bridge may be made by calling J.F. White Company at (617) 590-1286 or (617) 799-2913 or by VHF FM marine radio channel 13 and 16.

The waterway users and upstream oil facilities, were all advised regarding the four hour advance notice requirement. No objections were received.

In accordance with 33 CFR 117.35(e), the bridge must return to its regular operating schedule immediately at the end of the designated time period. This deviation from the operating regulations is authorized under 33 CFR 117.35.

Dated: November 10, 2011.
Gary Kassof,
Bridge Program Manager, First Coast Guard District.

[FR Doc. 2011-30187 Filed 11-22-11; 8:45 am]

BILLING CODE 9110-04-P